FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

A & A Shipping & Logistics Inc. (NVO), 2 Reiter Avenue, Hicksville, NY 11801. Officer: Daulat R. Tannan, President/Secretary (Qualifying Individual), Application Type: New NVO License.

Reina Grace Louden and Bradley Daniel Louden, dba BDL Logistics(NVO & OFF), 2387 Indigo Harbour Lane, League City, TX 77573. Officers: Reina G. Louden, Partner (Qualifying Individual), Bradley D. Louden, Partner, Application Type: New NVO & OFF License.

Bridgeline Logistics Incorporated (OFF), 700 Berron Lane, Barrington, IL 60010. Officer: Machiko K. Hamada, President/CEO (Qualifying Individual), Application Type: New OFF License.

Cargo Solution International, Inc. (NVO & OFF), 17910 Ajax Circle, City of Industry, CA 91748. Officers: Jacky C. Chen, President (Qualifying Individual), Jimmy Chi, Vice President, Application Type: New NVO & OFF License.

Champ International Shipping Limited Liability Company (NVO), 900 Kaighns Avenue, Camden, NJ 08103. Officers: Lamar Hibbert, Member (Qualifying Individual), Roy Hibbert, Member. Application Type: New NVO License.

CTC Logistics (L.A.) Inc. (NVO), 5250 W. Century Blvd., Suite 660, Los Angeles, CA 90045. Officers: Ann L. Shang, CFO (Qualifying Individual), Yon L. Li, President, Application Type: QI Change.

EP-Team, Inc. dba EP-Team (NVO & OFF), 3700 Forums Drive, #201, Flower Mound, TX 75028. Officers: Adam M. Burns, General Manager (Qualifying Individual), David R. Pulk, President/Director, Application Type: New NVO & OFF License.

ICT International Cargo Transport (USA) Inc. (NVO & OFF), 28922 Lorain Road, #102, North Olmsted, OH 44070. Officers: Leianne Malachin, Vice President Imports (Qualifying Individual), Janko Willie, President, Application Type: QI Change.

J.A. Logistics, Inc. (NVO & OFF), 3905 West Albany Street, McHenry, IL 60050. Officers: Joseph M. Alger, President/Secretary (Qualifying Individual), Richard D. Jennings, CEO, Application Type: New NVO & OFF License.

Mitsui-Soko (U.S.A.) Incorporated (NVO & OFF), 1651 Glen Curtiss Street, Carson, CA 90746. Officers: Ryuji Ikeda, President (Qualifying Individual), Hiroyuki Hamano, Chairman/Director, Application Type: QI Change.

Oceane Marine Shipping, Inc. (NVO & OFF), 407 East Maple Street, Suite 301, Cumming, GA 30040. Officers: Kristiaan M. Luykx, President (Qualifying Individual), Heather M. House, Secretary, Application Type: Add OFF Service.

OOCL Logistics Line Limited (NVO), 33/F Harbour Centre, 25 Harbour Road, Wanchai, Hong Kong. Officers: Tsang M. Tak, Director/CEO (Qualifying Individual), Joseph P. Hogan, Director, Application Type: QI Change.

Quick Freight Group, Inc. dba Accufreight Group, dba KAS America (NVO), 175-01 Rockaway Blvd., #301, Jamaica, NY 11434. Officers: Sam S. Kim, Secretary (Qualifying Individual), Sang M. Han, President, Application Type: QI Change and Trade Name Change.

Sola Transport Agency, Inc. (NVO), 4880 Granada Blvd., Coral Gables, FL 33146. Officer: Manuel M. Sola, Jr., President/Secretary (Qualifying Individual), Application Type: New NVO License.

TBS Shipping Houston, Inc. dba Magnum Lines (NVO & OFF), 11731 Jones Road, Suite 200, Houston, TX 77070. Officers: George E. Cody, President/Managing Director (Qualifying Individual), Joseph E. Royce, Director, Application Type: Name Change and QI Change.

Unifreight Logistics, Inc. (NVO & OFF), 9133 S. La Cienega Blvd., Suite 245, Inglewood, FL 90301. Officers: John C. Chang, President/Chairman (Qualifying Individual), Gary A. Dorian, Secretary, Application Type: New NVO & OFF License.

United World Line, Inc. dba WSI Forwarding Services (NVO & OFF), 1340 Depot Street, Suite 200, Cleveland, OH 44116. Officers: Jane A. Colazzo, Vice President (Qualifying Individual), Frederick M. Hunger, President, Application Type: Name Change and QI Change.

Victory Maritime Services USA (NVO), 425 West Main Street, Alhambra, CA 91801. Officers: Hans P. Hofmann, Assistant Secretary/VP (Qualifying Individual), Xu Chen, President/Secretary, Application Type: New OFF License.

Dated: March 4, 2011.
Rachel E. Dickon,
Assistant Secretary.

[FR Doc. 2011-5367 Filed 3-8-11; 8:45 am]

BILLING CODE 6730-01-P